DEPARTMENT OF ENERGY

Federal Energy Regulatory Commission

Combined Notice of Filings #1

Take notice that the Commission received the following electric rate filings:

Docket Numbers: ER15-1434-006.

Applicants: ISO New England Inc., Emera Maine.

Description: Compliance filing: ISO New England Inc. submits tariff filing per 35: Versant Power; Docket No. ER15-1434 Revised Joint offer of Settlement to be effective N/A.

Filed Date: 1/12/23.

Accession Number: 20230112-5000.

Comment Date: 5 p.m. ET 2/2/23.

Docket Numbers: ER20-2119-002.

Applicants: ISO New England Inc., Versant Power.

Description: Compliance filing: ISO New England Inc. submits tariff filing per 35: Versant Power; Docket No. ER20-2119 Revised Joint Offer of Settlement to be effective N/A.

Filed Date: 1/12/23.

Accession Number: 20230112-5001.

Comment Date: 5 p.m. ET 2/2/23.

Docket Numbers: ER23-226-001.

Applicants: Southwest Power Pool, Inc.

Description: Tariff Amendment: Deficiency Response—Fourth Amended and Restated WDJAs to be effective 12/28/2022.

Filed Date: 1/11/23.

Accession Number: 20230111-5072.

Comment Date: 5 p.m. ET 1/25/23.

Docket Numbers: ER23-446-001.

Applicants: Duke Energy Indiana, LLC.

Description: Tariff Amendment: DEI- Request to Defer Action on Construction Agreement to be effective 12/31/9998.

Filed Date: 1/12/23.

Accession Number: 20230112-5071.

Comment Date: 5 p.m. ET 2/2/23.

Docket Numbers: ER23-817-000.

Applicants: WPL Bear Creek Solar, LLC.

Description: Tariff Amendment: WPL Bear Creek Solar Cancellation of MBR Tariff to be effective 1/11/2023.

Filed Date: 1/11/23.

Accession Number: 20230111-5126.

Comment Date: 5 p.m. ET 2/1/23.

Docket Numbers: ER23-818-000.

Applicants: WPL Crawfish River Solar, LLC.

Description: Tariff Amendment: WPL Crawfish River Solar Notice of Cancel MBR Tariff to be effective 1/11/2023.

Filed Date: 1/11/23.

Accession Number: 20230111-5128.

Comment Date: 5 p.m. ET 2/1/23.

Docket Numbers: ER23-819-000.

Applicants: WPL North Rock Solar, LLC.

Description: Tariff Amendment: WPL North Rock Solar Notice of Cancel MBR Tariff to be effective 1/11/2023.

Filed Date: 1/11/23.

Accession Number: 20230111-5129.

Comment Date: 5 p.m. ET 2/1/23.

Docket Numbers: ER23-820-000.

Applicants: WPL Wood County Solar, LLC.

Description: Tariff Amendment: WPL Wood County Solar, LLC Notice of Cancel MBR Tariff to be effective 1/11/2023.

Filed Date: 1/11/23.

Accession Number: 20230111-5131.

Comment Date: 5 p.m. ET 2/1/23.

Docket Numbers: ER23-821-000.

Applicants: New York State Reliability Council, L.L.C.

Description: Informational Filing of the Revised Installed Capacity Requirement of the New York Control Area by the New York State Reliability Council, L.L.C.

Filed Date: 12/22/22.

Accession Number: 20221222-5340.

Comment Date: 5 p.m. ET 1/18/23.

Docket Numbers: ER23-822-000.

Applicants: Midcontinent Independent System Operator, Inc.

Description: § 205(d) Rate Filing: 2023-01-12_SA 3339 Termination of MidAmerican-Contrail Wind Project E&P (J611) to be effective 1/13/2023.

Filed Date: 1/12/23.

Accession Number: 20230112-5017.

Comment Date: 5 p.m. ET 2/2/23.

Docket Numbers: ER23-823-000.

Applicants: EnerSmart Chula Vista BESS LLC.

Description: § 205(d) Rate Filing: Request to Make Capacity Sales at Market-Based Rates to be effective 3/14/2023.

Filed Date: 1/12/23.

Accession Number: 20230112-5022.

Comment Date: 5 p.m. ET 2/2/23.

Docket Numbers: ER23-824-000.

Applicants: PJM Interconnection, L.L.C.

Description: § 205(d) Rate Filing: Amendment to ISA, Service Agreement No. 5999; Queue No. AC2-012 to be effective 3/10/2021.

Filed Date: 1/12/23.

Accession Number: 20230112-5087.

Comment Date: 5 p.m. ET 2/2/23.

Docket Numbers: ER23-825-000.

Applicants: Appalachian Power Company.

Description: § 205(d) Rate Filing: OATT—Revise Attachment K, AEP Texas Inc. Compliance with PUCT Project 53169 to be effective 12/31/9998.

Filed Date: 1/12/23.

Accession Number: 20230112-5088.

Comment Date: 5 p.m. ET 2/2/23.

Docket Numbers: ER23-826-000.

Applicants: Northern States Power Company, a Minnesota corporation.

Description: § 205(d) Rate Filing: 2023-1-12 ERPC Nighthawk CIAC 716-NSP to be effective 3/13/2023.

Filed Date: 1/12/23.

Accession Number: 20230112-5114.

Comment Date: 5 p.m. ET 2/2/23.

Docket Numbers: ER23-827-000.

Applicants: Michigan Electric Transmission Company, LLC.

Description: § 205(d) Rate Filing: Filing of Certificate of Concurrence to be effective 3/13/2023.

Filed Date: 1/12/23.

Accession Number: 20230112-5115.

Comment Date: 5 p.m. ET 2/2/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 12, 2023.
Kimberly D. Bose,
Secretary.

[FR Doc. 2023-00953 Filed 1-18-23; 8:45 am]

BILLING CODE 6717-01-P